DEPARTMENT OF COMMERCE

Census Bureau

Agency Information Collection Activities; Submission to the Office of Management and Budget (OMB) for Review and Approval; Comment Request; 2020 Public Use Microdata Areas Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 6, 2020 during a 60-day comment period. This notice allows for an additional 30 days for public comments.

Agency: U.S. Census Bureau.

Title: 2020 Public Use Microdata Areas Program.

OMB Control Number: 0607-XXXX.

Form Number(s): None.

Type of Request: Regular submission, New Information Collection Request.

Number of Respondents: 52.

Average Hours per Response: 40.

Burden Hours: 2,080.

Needs and Uses: Public Use Microdata Areas, or PUMAs, are non-overlapping, statistical geographic areas that partition each state or equivalent entity into geographic areas containing no fewer than 100,000 people each. They cover the entirety of the United States, Puerto Rico, Guam, and the U.S. Virgin Islands.¹ PUMAs are a higher level of geography than census tract, or even county in some instances, and provide all data users with another level of geography for data analysis.

¹ States or equivalent entities with less than 200,000 persons are not eligible to participate because their populations do not meet the minimum threshold to delineate more than one PUMA.

The Census Bureau is the only federal agency to create PUMAs. Every ten years the Census Bureau offers State Data Centers the opportunity to delineate PUMAs for the tabulation and dissemination of decennial census and American Community Survey (ACS) Public Use Microdata Sample (PUMS) data as well as for the dissemination of period estimates from both the ACS and Puerto Rico Community Survey. PUMS data are valuable to state and local planning agencies/offices, as well as students, for use in long-range planning and research projects. PUMS data contain individual records of the characteristics for a sample of persons and households. They show a full range of population and housing unit responses collected on individual ACS questionnaires, for a subsample of ACS housing units and group quarters persons. Without PUMAs and PUMS data, the data community would not be able to create custom tables and statistics not available through pre-tabulated (or summary) data products.

The Census Bureau invites State Data Centers from each state, the District of Columbia, and Puerto Rico to delineate PUMAs, using the decennial census population counts and updated census tract geography as critical inputs to delineation. The Census Bureau asks State Data Centers to involve interested data users, such as those in tribal, state, and local (e.g., county, incorporated place, and town/township) governments, as well as regional planning agencies or organizations to ensure that the PUMAs meet the needs of a variety of data users. Collaboration between State Data Centers and other interested data users is especially important for areas with population exceeding 100,000. Though collaboration is encouraged, the State Data Centers are the official participants for this program and must coordinate the delineation suggestions from other interested data users. The Census Bureau accepts PUMA delineation proposals for the 2020 Public Use Microdata Areas (PUMA) program (e.g., the 2020 PUMA) only from each state's respective State Data Center.

The Geographic Update Partnership Software (GUPS) is a geographic information system developed by the Census Bureau and provided complimentary to State Data Centers and interested data users. It contains tools and options specifically designed to assist with the delineation of PUMAs, allows for the sharing of work performed by multiple participants to facilitate a collaborative effort, and prepares the delineated PUMAs properly for submission to the Census Bureau. The Census Bureau only accepts submissions of PUMAs delineated and exported using GUPS.

There are three options for delineating PUMAs within GUPS. State Data Centers can choose to create them from scratch (e.g., Create a new blank PUMA layer), import them from a census tract equivalency file (e.g., Import a PUMA tabular equivalency file), or import them from a locally-generated PUMA shapefile (e.g., Import a PUMA shapefile). For added flexibility, participants can use more than one option to delineate PUMAs as they conduct their work. Each State Data Center works closely with the interested data users assisting with PUMA delineation to determine the best delineation method(s) for their state or specific situation. Once the State Data Centers complete the delineation process, they submit their PUMA delineations using the Secure Web Incoming Module (SWIM). SWIM is the only Census Bureau authorized submission method for the 2020 PUMA. The participant guide, which will be available for download from the 2020 PUMA website when the program begins in September 2021, includes instructions for using both GUPS and SWIM. Locate the 2020 PUMA website at: www.census.gov/programs-surveys/geography/guidance/geo-areas/pumas/2020pumas.html.

To prepare State Data Centers for their involvement in the 2020 PUMA, the Census Bureau provided an overview of the program during the State Data Center's annual meeting in October 2020. During that overview, the Census Bureau informed State Data Centers of their opportunity to review and provide comments on the proposed criteria and guidelines for PUMAs. The Census Bureau will respond to comments received on the proposed criteria prior to posting the final criteria and guidelines on the PUMA website for use during the program.

Following the October 2020 meeting, the Census Bureau emailed each of the State Data Centers to establish a primary and secondary point of contact for the 2020 PUMA, inquire about existing SWIM account(s), and gauge interest in GUPS user acceptance testing. These points of contact will receive the official program announcement email in September 2021, that will include instructions to download the 2020 PUMA materials from the PUMA website and begin delineation. After the program announcement email is distributed, the Census Bureau will communicate with the points of contact to confirm receipt of the email, answer any questions they may have, and ensure an awareness of the material availability on the PUMA website. The Census Bureau will also reinforce the program's 90-day review timeframe and overall schedule.

Once the program is underway, the Census Bureau will conduct a minimum of two online trainings to support PUMA delineation and will provide technical support to participants throughout the duration of the program.

The Census Bureau will accept PUMA submissions from State Data Centers through January 2022. If questions arise regarding a submission during processing, the Census Bureau will confer with the points of contact to resolve them. The resulting, finalized PUMAs will be publicly available online to all data users at the conclusion of the Census Bureau's processing in the summer of 2022.

Affected Public: State Data Centers representing each state, the District of Columbia, and Puerto Rico.

Frequency: Once per decade, following the decennial census.

Respondent's Obligation: Voluntary.

Legal Authority: Title 13, U.S.C. Section 6.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2021-10666 Filed 5-19-21; 8:45 am]

BILLING CODE 3510-07-P